DEPARTMENT OF TRANSPORTATION

Federal Aviation Administration

14 CFR Part 39

[Docket No. FAA-2016-9392; Directorate Identifier 2016-NM-003-AD]

RIN 2120-AA64

Airworthiness Directives; Zodiac Aero Evacuation Systems

AGENCY: Federal Aviation Administration (FAA), DOT.

ACTION: Notice of proposed rulemaking (NPRM).

SUMMARY: We propose to adopt a new airworthiness directive (AD) for Zodiac Aero Evacuation Systems fusible plugs installed on emergency evacuation equipment for various transport category airplanes. This proposed AD was prompted by reports indicating that affected fusible plugs activated (vented gas) below the rated temperature. This proposed AD would require an inspection of the fusible plugs to determine the part number, and lot number and replacement of all affected fusible plugs. We are proposing this AD to prevent the unsafe condition on these products.

DATES: We must receive comments on this proposed AD by January 3, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

Examining the AD Docket

You may examine the AD docket on the Internet at http://www.regulations.gov by searching for and locating Docket No. FAA-2016-9392; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Cesar Gomez, Aerospace Engineer, Airframe and Mechanical Systems Branch, ANE-171, FAA, New York Aircraft Certification Office (ACO), 1600 Stewart Avenue, Suite 410, Westbury, NY 11590; telephone: 516-228-7318; fax: 516-794-5531.

SUPPLEMENTARY INFORMATION:

Comments Invited

We invite you to send any written relevant data, views, or arguments about this proposal. Send your comments to an address listed under the ADDRESSES section. Include “Docket No. FAA-2016-9392; Directorate Identifier 2016-NM-003-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports indicating that certain fusible plugs installed on emergency evacuation equipment activated below the rated temperature. Fusible plugs are safety devices that vent air from charged inflation systems if the inflation systems encounter excessive temperatures. Tests conducted on affected fusible plugs revealed that the plugs activated (vented gas) between 130 and 150 degrees Fahrenheit (ºF) instead of the rated temperature of 174 °F. The affected fusible plugs shipped from Air Cruisers, which is a component of Zodiac Aero Evacuation Systems, from October 1, 2008, through October 1, 2009, and have part number (P/N) B13984-3, stamped with Lot PA-21 or PA-22. Currently there are 158 affected fusible plugs that have not been accounted for. Affected fusible plugs could be installed on emergency evacuation equipment, which includes all inflation valves, reservoir and valve assemblies, and evacuation slides, slides/rafts and liferafts. Activation of the fusible plugs vents all of the gas from the inflation system reservoir (inflation bottle), rendering the evacuation system unusable.

Related Service Information

We reviewed Air Cruisers Service Information Letter 25-246, Rev. No. 1, dated February 21, 2014. The service information provides information regarding affected fusible plugs and provides guidance on fusible plug replacement.

FAA's Determination

We are proposing this AD because we evaluated all the relevant information and determined the unsafe condition described previously is likely to exist or develop in other products of the same type design.

Proposed AD Requirements

This proposed AD would require an inspection of the fusible plugs to determine the part number and lot number, and replacement of all affected fusible plugs. This proposed AD also would require, for affected part and lot numbers only, sending the part number identification results to Air Cruisers.

Costs of Compliance

We estimate that this proposed AD affects 3,384 airplanes of U.S. registry. We estimate the following costs to comply with this proposed AD:

Estimated Costs
Action | Labor cost | Parts cost | Cost per product | Cost on U.S. operators
Determining part number | 1 work-hour × $85 per hour = $85 | $0 | $85 | $287,640

We estimate the following costs to do any necessary replacements that would be required based on the results of the proposed inspection. We have no way of determining the number of aircraft that might need these replacements:

On-Condition Costs
Action | Labor cost | Parts cost | Cost per product
Replacing | 1 work-hour × $85 per hour = $85 | Not available | $85
Reporting | 1 work-hour × $85 per hour = $85 | $0 | 85

According to the manufacturer, some of the costs of this proposed AD may be covered under warranty, thereby reducing the cost impact on affected individuals. We do not control warranty coverage for affected individuals. As a result, we have included all available costs in our cost estimate.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Zodiac Aero Evacuation Systems: Docket No. FAA-2016-9392; Directorate Identifier 2016-NM-003-AD.

(a) Comments Due Date

We must receive comments by January 3, 2017.

(b) Affected ADs

None.

(c) Applicability

This AD applies to Zodiac Aero Evacuation Systems fusible plugs installed on emergency evacuation equipment. These affected fusible plugs might be installed on the emergency evacuation equipment of various transport airplanes, certificated in any category, including, but not limited to, the airplanes of manufacturers specified in paragraphs (c)(1), (c)(2), (c)(3), and (c)(4) of this AD.

(1) Airbus.

(2) The Boeing Company.

(3) BAE Systems (Operations) Limited.

(4) Fokker Services B.V.

(d) Subject

Air Transport Association (ATA) of America Code 25, Equipment/furnishings.

(e) Unsafe Condition

This AD was prompted by reports indicating that affected fusible plugs activated (vented gas) below the rated temperature. We are issuing this AD to detect and correct fusible plugs that might activate below the rated temperature, which renders the evacuation system unusable.

(f) Compliance

Comply with this AD within the compliance times specified, unless already done.

(g) Fusible Plug Identification, and Replacement

Within 30 days after the effective date of this AD: Do an inspection to determine the part number and lot number of the fusible plugs installed in the emergency evacuation equipment (including all inflation valves, reservoir and valve assemblies, and evacuation slides, slides/rafts and liferafts). A review of airplane maintenance records is acceptable to make this determination if the part number and lot number of the fusible plugs can be conclusively determined from that review. If any fusible plug has part number (P/N) B13984-3, stamped with Lot PA-21 or PA-22: Before further flight, replace the fusible plug with a new part.

Note 1 to paragraph (g) of this AD: Guidance can be found in the applicable component maintenance manual for the replacement. In addition, Air Cruisers Service Information Letter 25-246, Rev. No. 1, dated February 21, 2014, provides information regarding affected fusible plugs and guidance on the replacement.

(h) Reporting

If any fusible plug having P/N B13984-3, stamped with Lot PA-21 or PA-22, is identified during the inspection required by paragraph (g) of this AD: At the time specified in paragraph (h)(1) or (h)(2) of this AD, report the finding to Air Cruisers, Attention Kelly Schmidt, 1747 State Route 34, Wall Township, NJ 07727-3935; fax: 732-681-9163; email: aircruisers@zodiacaerospace.com. Include the quantity of fusible plugs scrapped and the name of the company or service center.

(1) If any affected fusible plug was identified on or after the effective date of this AD: Submit the report within 30 days after the part number identification.

(2) If any affected fusible plug was identified before the effective date of this AD: Submit the report within 30 days after the effective date of this AD.

(i) Parts Installation Prohibition

As of the effective date of this AD, no person may install on any airplane any fusible plug having P/N B13984-3, stamped with Lot PA-21 or PA-22.

(j) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Alternative Methods of Compliance (AMOCs)

(1) The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone: 516-228-7300; fax: 516-794-5531.

(2) Before using any approved AMOC, notify your appropriate principal inspector, or lacking a principal inspector, the manager of the local flight standards district office/certificate holding district office.

(l) Related Information

For more information about this AD, contact Cesar Gomez, Aerospace Engineer, Airframe and Mechanical Systems Branch, ANE-171, FAA, New York ACO, 1600 Stewart Avenue, Suite 410, Westbury, NY 11590; telephone: 516-228-7318; fax: 516-794-5531.

Issued in Renton, Washington, on November 8, 2016.
Michael Kaszycki,
Acting Manager, Transport Airplane Directorate, Aircraft Certification Service.

[FR Doc. 2016-27626 Filed 11-17-16; 8:45 am]

BILLING CODE 4910-13-P